DEPARTMENT OF COMMERCE

Bureau of the Census

National Advisory Committee

AGENCY: Bureau of the Census, Department of Commerce.

ACTION: Notice of public virtual meeting.

SUMMARY: The Bureau of the Census (Census Bureau) is giving notice of a virtual meeting of the National Advisory Committee (NAC). The Committee will address updates on the 2015 National Content Test and Tribal Enrollment Question Focus Groups. The NAC will meet virtually on Thursday, April 21, 2016. Last minute changes to the schedule are possible, which could prevent giving advance public notice of schedule adjustments. Please visit the Census Advisory Committees Web site for the most current meeting agenda at: http://www.census.gov/cac/.

DATES: April 21, 2016. The virtual meeting will begin at approximately 2:00 p.m. ET and end at approximately 4:00 p.m. ET.

ADDRESSES: The meeting will be held via teleconference. To attend, participants should call the following phone number to access the audio portion of the meeting: 1-800-369-1730, passcode: 5198433. The meeting will be available via WebEx, please CLICK HERE for access. The meeting number is 744882915.

FOR FURTHER INFORMATION CONTACT: Tara Dunlop, Advisory Committee Branch Chief, Customer Liaison and Marketing Services Office, tara.t.dunlop@census.gov, Department of Commerce, U.S. Census Bureau, Room 8H177, 4600 Silver Hill Road, Washington, DC 20233, telephone 301-763-5222. For TTY callers, please use the Federal Relay Service 1-800-877-8339.

SUPPLEMENTARY INFORMATION: The NAC was established in March 2012 and operates in accordance with the Federal Advisory Committee Act (Title 5, United States Code, Appendix 2, Section 10). The NAC members are appointed by the Director, Census Bureau, and consider topics such as hard to reach populations, race and ethnicity, language, aging populations, American Indian and Alaska Native tribal considerations, new immigrant populations, populations affected by natural disasters, highly mobile and migrant populations, complex households, rural populations, and population segments with limited access to technology. The Committee also advises on data privacy and confidentiality, among other issues.

All meetings are open to the public. A brief period will be set aside at the meeting for public comment on April 21, 2016. However, individuals with extensive questions or statements must submit them in writing to: census.national.advisory.committee@census.gov (subject line “April 21, 2016, NAC Virtual Meeting Public Comment”), or by letter submission to the Committee Liaison Officer, Department of Commerce, U.S. Census Bureau, Room 8H119, 4600 Silver Hill Road, Washington, DC 20233.

Dated: April 4, 2016.
John H. Thompson,
Director, Bureau of the Census.

[FR Doc. 2016-08167 Filed 4-7-16; 8:45 am]

BILLING CODE 3510-07-P